SECURITIES AND EXCHANGE COMMISSION

[Release No. 34-42697; File No. SR-Amex 00-11]

Self-Regulatory Organizations; Notice of Filing of Proposed Rule Change by American Stock Exchange LLC Relating to Floor Official Rulings

April 18, 2000.

Pursuant to Section 19(b)(1) of the Securities Exchange Act of 1934 (“Act”) ¹ and Rule 19b-4 thereunder,² notice is hereby given that on February 22, 2000, the American Stock Exchange LLC (“Amex” or “Exchange”) filed with the Securities and Exchange Commission (“SEC” or “Commission”) the proposed rule change as described in Items I, II, and III below, which Items have been prepared by the Amex. The Commission is publishing this notice to solicit comments on the proposed rule change from interested persons.

¹ 15 U.S.C. 78s(b)(1).

² 17 CFR 240.19b-4.

I. Self-Regulatory Organization's Statement of the Terms of Substance of the Proposed Rule Change

The Amex proposes to revise Amex Rule 22 to require a written record of all Floor Official rulings. The text of the proposed rule change follows. Additions are in italics; deletions are in [brackets].

Floor Official Rulings

Rule 22 Authority of Floor Officials

(a) through (d) No change

• Commentary

.01 No change.

.02 [If requested by a member on the Floor, a Floor Official must render his decision or ruling in writing.] A written record of all Floor Official decisions or rulings must be made on a form provided by the Exchange. The written record should be prepared as soon as practicable after the decision or ruling is made. Floor Officials must submit the completed rulings forms to the Exchange at the end of each trading day. Failure to submit completed rulings forms may result in the removal of a Floor Official or a Floor Official becoming ineligible for reappointment.

II. Self-Regulatory Organization's Statement of the Purpose of, and Statutory Basis for, the Proposed Rule Change

In its filing with the Commission, the Amex included statements concerning the purpose of and basis for the proposed rule change and discussed any comments it received on the proposed rule change. The text of these statements may be examined at the places specified in Item IV below. The Amex has prepared summaries, set forth in sections A, B, and C below, of the most significant aspects of such statements.

A. Self-Regulatory Organization's Statement of the Purpose of, and Statutory Basis for, the Proposed Rule Change

1. Purpose

The Exchange has decided to adopt a requirement that Floor Officials provide a written record of all rulings, including rulings involving complaints of harassment, intimidation or other activities in violation of Exchange rules by either specialists or traders. Currently, Floor Officials are not required to make a written record of their rulings unless specifically requested to do so by a member. The Exchange believes, however, that a written record of Floor Official rulings will be useful, especially in situations where the conduct of floor members is involved. Having a written record of a complaint and/or a ruling involving a broad range of activities, including alleged harassment or intimidation on the trading floor, can be used in investigations and other inquiries. Therefore, the Exchange is now proposing to amend Rule 22 to require Floor Officials to make a written record of all rulings on a form provided by the Exchange. The form will be designed to be completed quickly and efficiently as soon as possible after the incident occurs or the ruling is made. The Exchange believes that a properly designed form will help alleviate concerns that Floor Officials will object to the time it takes to make a written record of their rulings. The rule will require Floor Officials to submit the form to the Exchange at the end of the trading day.

2. Basis

The Exchange believes that the proposed rule change is consistent with Section 6(b) ³ of the Act, in general, and furthers the objectives of Section 6(b)(5),⁴ in particular, because it is designed to prevent fraudulent and manipulative acts and practices, to promote just and equitable principles of change, to foster cooperation and coordination with persons engaged in facilitating transactions in securities, and to remove impediments to and perfect the mechanism of a free and open market and a national market system.

³ 15 U.S.C. 78f(b).

⁴ 15 U.S.C. 78f(b)(5).

B. Self-Regulatory Organization's Statement on Burden on Competition

The Exchange does not believe that the proposed rule change will impose any burden on competition.

C. Self-Regulatory Organization's Statement on Comments on the Proposed Rule Change Received From Members, Participants or Others

No written comments were solicited or received with respect to the proposed rule change.

III. Date of Effectiveness of the Proposed Rule Change and Timing for Commission Action

Within 35 days of the date of publication of this notice in the Federal Register or within such longer period (i) as the Commission may designate up to 90 days of such date if it finds such longer period to be appropriate and publishes its reasons for so finding or (ii) as to which the Exchange consents, the Commission will:

(A) by order approve such proposed rule change, or

(B) institute proceedings to determine whether the proposed rule change should be disapproved.

IV. Solicitation of Comments

Interested persons are invited to submit written data, views and arguments concerning the foregoing, including whether the proposed rule change is consistent with the Act. Persons making written submissions should file six copies thereof with the Secretary, Securities and Exchange Commission, 450 Fifth Street, N.W., Washington, D.C. 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Amex. All submissions should refer to File No. SR-Amex-00-11 and should be submitted by May 16, 2000.

For the Commission, by the Division of Market Regulation, pursuant to delegated authority.⁵
⁵ 17 CFR 200.30-3(a)(12).
Margaret H. McFarland,
Deputy Secretary.

[FR Doc. 00-10261 Filed 4-24-00; 8:45 am]

BILLING CODE 8010-01-M